DEPARTMENT OF ENERGY

Federal Energy Regulatory Commission

Sunshine Act Meeting

December 9, 2010.

The following notice of meeting is published pursuant to section 3(a) of the government in the Sunshine Act (Pub. L. 94-409), 5 U.S.C. 552b:

Agency Holding Meeting: Federal Energy Regulatory Commission.

Date and Time: December 16, 2010, 10 a.m.

Place: Room 2C, 888 First Street, NE., Washington, DC 20426.

Status: Open.

Matters to be Considered: Agenda.

* Note —Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

965th—Meeting, Regular Meeting
[December 16, 2010 10 a.m.]
Item No. | Docket No. | Company
ADMINISTRATIVE
A-1 | AD02-1-000 | Agency Administrative Matters.
A-2 | AD02-7-000 | Customer Matters, Reliability, Security and Market Operations.
A-3 | AD11-5-000 | Annual Report of Natural Gas Transactions.
ELECTRIC
E-1 | ER10-1791-000 | Midwest Independent Transmission System Operator, Inc.
E-2 | EC10-68-000 | FirstEnergy Corp. and Allegheny Energy, Inc.
E-3 | ER11-1830-000 | California Independent System Operator Corporation.
E-4 | ER11-1923-00 | Entergy Arkansas, Inc.; Entergy Gulf States Louisiana, L.L.C.; Entergy Louisiana, LLC; Entergy Mississippi, Inc.; Entergy New Orleans, Inc. and Entergy Texas, Inc.
E-5 | ER10-1401-000 | California Independent System Operator Corporation.
| ER10-2191-000
| EL10-76-000 | Green Energy Express LLC and 21st Century Transmission Holdings, LLC.
E-6 | EL10-51-000 | Grasslands Renewable Energy LLC.
E-7 | RM09-09-000 | Version One Regional Reliability Standards for Facilities Design, Connections, and Maintenance; Protection and Control; and Voltage and Reactive.
E-8 | RM09-14-000 | Version One Regional Reliability Standard for Transmission Operations.
E-9 | OMITTED |
E-10 | RM10-5-000 | Interpretation of Protection System Reliability Standard.
E-11 | RM06-16-010 | Mandatory Reliability Standards for the Bulk Power System.
| RM06-16-011
E-12 | RM10-8-000 | Electric Reliability Organization Interpretations of Interconnection Reliability Operations and Coordination and Transmission Operations Reliability Standards.
E-13 | RM06-22-012 | Mandatory Reliability Standards for Critical Infrastructure Protection.
E-14 | EL00-66-015 | Louisiana Public Service Commission and the Council of the City of New Orleans v. Entergy Corporation.
E-15 | ER11-1918-000 | ISO New England Inc.
E-16 | ER10-2477-000 | ISO New England Inc.
E-17 | OMITTED |
E-18 | EC10-67-000 | BHE Holdings Inc. and Maine & Maritimes Corporation.
E-19 | NJ09-1-001 | United States Department of Energy—Bonneville Power Administration.
E-20 | NP10-160-000 | North American Electric Reliability Corporation.
E-21 | ER11-1947-000 | ISO New England Inc.
GAS
G-1 | RM10-25-000 | Five-Year Review of Oil Pipeline Pricing Index.
G-2 | RM11-4-000 | Storage Reporting Requirements of Interstate and Intrastate Natural Gas Companies.
G-3 | RM09-2-001 | Contract Reporting Requirements of Intrastate Natural Gas Companies.
G-4 | RP07-340-007 | Columbia Gas Transmission Corporation.
G-5 | RP08-295-002 | Columbia Gas Transmission Corporation.
HYDRO
H-1 | P-2342-005 | PacifiCorp.
| P-2342-011
CERTIFICATES
C-1 | CP10-457-000 | National Fuel Gas Supply Corporation.
| CP10-458-000
C-2 | CP10-488-000 | Columbia Gas Transmission, LLC and Millennium Pipeline Company, LLC.
C-3 | CP10-471-000 | Texas Eastern Transmission, LP.

Kimberly D. Bose,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-31420 Filed 12-10-10; 11:15 am]

BILLING CODE 6717-01-P